DEPARTMENT OF THE INTERIOR

Bureau of Land Management

[AZ-931-07, 1430-ET, AZA 33648]

Notice of Proposed Withdrawal and Opportunity for Public Meeting; Arizona

AGENCY: Bureau of Land Management, Interior.

ACTION: Notice.

SUMMARY: The United States Department of Agriculture, Forest Service, has filed an application requesting the Secretary of the Interior to withdraw 387.50 acres of National Forest System land from mining for protection and conservation of the Arizona Hedgehog Cactus (Echinocereus triglochidiatus var. arizonicus) located in the Tonto National Forest, Arizona. This notice segregates the land for up to 2 years from location and entry under the United States mining laws. The land will remain open to all other uses which may by law be authorized on National Forest System lands.

DATES: Comments must be received no later than April 17, 2007.

ADDRESSES: Comments and meeting requests should be sent to both the Arizona Lands Program Lead, Division of Resources, Bureau of Land Management, One N. Central Avenue, Suite 800, Phoenix, Arizona 85004, and the Forest Supervisor, Tonto National Forest, 2324 E. McDowell Road, Phoenix, Arizona 85006.

FOR FURTHER INFORMATION CONTACT: Karen Harbour, Tonto National Forest, at the above address or at 602-225-5200.

SUPPLEMENTARY INFORMATION: The Forest Service has filed an application with the Bureau of Land Management, pursuant to Section 204 of the Federal Land Policy and Management Act of 1976, 43 U.S.C. 1714, to withdraw the following-described National Forest System land within the Tonto National Forest for a period of 20 years from location and entry under the United States mining laws, subject to valid existing rights:

Gila and Salt River Meridian

T. 1 S., R. 13 E.

Sec. 12, S½NE¼NE¼SE¼NE¼, SE¼NE¼SE½NE¼, E½SE¼SE¼NE¼, E½E½NE¼SE¼, and NE¼NE¼SE¼SE¼;

Sec. 13, S½N½NE¼NE¼, S½NE¼NE¼, N½SE¼NE¼, N½S½SE¼NE¼, S½SE¼SE¼NE¼, and SE¼SW¼SE¼NE¼.

T. 1 S., R. 14 E.

Sec. 7, S½N½N½ of Lot 2, S½N½ of Lot 2, S½ of Lot 2, Lot 3, Lots 7-10, inclusive, SW¼SE¼NW¼, S½NW¼SE¼NW¼, W½E½SW¼, S½N½NW¼SE¼NW¼, SE¼SW¼SW¼, and E½SW¼SW¼SW¼;

Sec. 18, Lots 1 and 2, and E½NW¼, excepting a portion of Mineral Survey No. 2337.

The area described contains 387.50 acres, more or less, in Gila and Pinal Counties.

The purpose of the proposed withdrawal would be to protect and conserve an ecologically viable population of Arizona Hedgehog Cactus to compensate for occupied habitat that will be lost as a result of open-pit mine and processing facilities located within the Tonto National Forest. The cactus is listed as a Federal Endangered Species and is also on the Forest Service Sensitive Species list.

The use of a right-of-way, an interagency agreement, or a cooperative agreement would not adequately constrain nondiscretionary uses which could irrevocably damage the plants and their habitat.

There are no suitable alternative sites that can be considered because the above-described land was identified as the best choice for mitigation by a committee of botanists familiar with the species.

No water rights are needed to fulfill the purpose of the requested withdrawal.

Records relating to the application may be examined by interested parties at the address of the Bureau of Land Management office stated above.

For a period of 90 days from the date of publication of this notice, all persons who wish to submit comments, suggestions, or objections in connection with the proposed withdrawal may present their views in writing, by the date specified above, to both the Arizona Lands Program Lead, Division of Resources, Bureau of Land Management, and the Forest Supervisor, Tonto National Forest at the addresses stated above.

Notice is hereby given that an opportunity for a public meeting is afforded in connection with the proposed withdrawal. All interested persons who desire a public meeting for the purpose of being heard on the proposed withdrawal must submit a written request, by the date specified above, to both the Arizona Lands Program Lead, Bureau of Land Management, and the Forest Supervisor, Tonto National Forest at the addresses stated above. Upon determination by the authorized officer that a public meeting will be held, a notice of time and place will be published in the Federal Register at least 30 days before the scheduled date of the meeting.

The application will be processed in accordance with the regulations set forth in 43 CFR part 2300.

Comments, including names and street addresses of respondents, will be available for public review at the Tonto National Forest at the above address during regular business hours 8 a.m. to 4:30 p.m., Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

On January 17, 2007 the above-described land will be segregated from location and entry under the United States mining laws. The segregative effect of the application shall terminate upon denial or cancellation of the application; approval of the application; or January 19, 2009, whichever occurs first.

Authority: 43 CFR 2310.3-1.

Dated: November 28, 2006.
Michael A. Taylor,
Deputy State Director, Resources Division.

[FR Doc. E7-510 Filed 1-16-07; 8:45 am]

BILLING CODE 3410-11-P